DEPARTMENT OF THE INTERIOR

Bureau of Land Management

[CA-690-00-5101-01-B109; CACA-CACA-40467]

Proposed Cadiz Groundwater Storage Dry-Year Supply Program, Pipeline Right of Way and Plan Amendment

AGENCY: Bureau of Land Management, Needles Field Office, Desert District, California Department of the Interior.

ACTION: Notice of extension of comment period for draft environmental impact statement for proposed Cadiz groundwater storage and dry-year supply program pipeline right-of-way and plan amendment.

SUMMARY: In a Notice of Availability published in the Federal Register November 26, 1999 (Volume 64, page 66474) the end of the public comment period was February 22, 2000. However, public interest has indicated a need to extend the public review.

DATES: Written comments must be received in writing to the Metropolitan Water District no later than March 8, 2000.

ADDRESSES: Written comments on the Draft EIR/EIS should be mailed to: Metropolitan Water District of Southern California, Post Office Box 54153, Los Angeles, California 90054-0153, Attention: Mr. Jack Safely.

FOR ADDITIONAL INFORMATION CONTACT: Further information regarding the project may be obtained from Mr. Jack Safely of MWD at (213) 217-6981 or James Williams of BLM at (909) 697-5390.

Dated: February 14, 2000.
Douglas Romoli,
Acting District Manager.

[FR Doc. 00-4069 Filed 2-18-00; 8:45 am]

BILLING CODE 4310-40-P